DEPARTMENT OF COMMERCE

International Trade Administration

[C-570-953]

Narrow Woven Ribbons With Woven Selvedge From the People's Republic of China: Final Results of Countervailing Duty Administrative Review; 2018

AGENCY: Enforcement and Compliance, International Trade Administration, Department of Commerce.

SUMMARY: The Department of Commerce (Commerce) determines that Yama Ribbons and Bows Co., Ltd. (Yama), an exporter/producer of narrow woven ribbons with woven selvedge (Ribbons) from the People's Republic of China (China), received countervailable subsidies during the period of review (POR) January 1, 2018, through December 31, 2018.

DATES: Applicable July 28, 2021.

FOR FURTHER INFORMATION CONTACT: Terre Keaton Stefanova or Amaris Wade, AD/CVD Operations, Office II, Enforcement and Compliance, International Trade Administration, U.S. Department of Commerce, 1401 Constitution Avenue NW, Washington, DC 20230; telephone: (202) 482-1280 or (202) 482-3874, respectively.

SUPPLEMENTARY INFORMATION:

Background

The events that occurred since Commerce published the Preliminary Results ¹ on January 27, 2021, are discussed in the Issues and Decision Memorandum.²

¹ See Narrow Woven Ribbons with Woven Selvedge from the People's Republic of China: Preliminary Results of Countervailing Duty Administrative Review; 2018, 86 FR 7264 (January 27, 2021) (Preliminary Results), and accompanying Preliminary Decision Memorandum (PDM).

² See Memorandum, “Decision Memorandum for the Final Results of 2018 Countervailing Duty Administrative Review: Narrow Woven Ribbons with Woven Selvedge from the People's Republic of China,” dated concurrently with, and hereby adopted by, this notice (Issues and Decision Memorandum).

On April 1, 2021, Commerce extended the deadline for the final results of this administrative review until July 23, 2021.³

³ See Memorandum, “Extension of Deadline for the Final Results of the 2018 Countervailing Duty Administrative Review,” dated April 1, 2021.

Scope of the Order

The products covered by the order are narrow woven ribbons with woven selvedge from China. For a complete description of the scope of this administrative review, see the Preliminary Results PDM.⁴

⁴ See Preliminary Results PDM at 3-5.

Analysis of Comments Received

All issues raised in interested parties' briefs are addressed in the Issues and Decision Memorandum accompanying this notice. A list of the issues raised by interested parties and to which we responded in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be access directly at http://enforcement.trade.gov/frn/.

Changes Since the Preliminary Results

Based on the comments received from interested parties, we made no changes to our subsidy rate calculations in the Preliminary Results. For a discussion of these issues, see the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁵ The Issues and Decision Memorandum contains a full description of the methodology underlying Commerce's conclusions, including any determination that relied upon the use of adverse facts available (AFA) pursuant to sections 776(a) and (b) of the Act.

⁵ See sections 771(5)(B) and (D) of the Act regarding financial contribution; section 771(5)(E) of the Act regarding benefit; and section 771(5A) of the Act regarding specificity.

Final Results of Administrative Review

In accordance with 19 CFR 351.221(b)(5), we calculated a countervailable subsidy rate for the producer/exporter under review for the period of January 1, 2018, through December 31, 2018 as follows:

Company | Subsidy rate (percent)
Yama Ribbons and Bows Co., Ltd | 42.20

Assessment Rates

Consistent with section 751(a)(1) of the Act and 19 CFR 351.212(b)(2), upon completion of the administrative review, Commerce shall determine, and CBP shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Instructions

In accordance with section 751(a)(2)(C) of the Act, Commerce also intends to instruct CBP to collect cash deposits of estimated countervailing duties in the amount shown above for Yama, on shipments of subject merchandise entered, or withdrawn from warehouse, for consumption on or after the date of publication of the final results of this review. For all non-reviewed firms, Commerce will instruct CBP to continue to collect cash deposits at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act, and 19 CFR 351.221(b)(5).

Dated: July 22, 2021.
Christian Marsh,
Acting Assistant Secretary for Enforcement and Compliance.

Appendix

List of Topics Discussed in the Issues and Decision Memorandum

I. Summary

II. Background

III. Use of Adverse Facts Available

IV. Subsidies Valuation Information

V. Programs Determined To Be Countervailable

VI. Programs Determined Not To Provide Measurable Benefits During the POR

VII. Programs Determined Not To Be Used During the POR

VIII. Analysis of Comments

Comment 1: Application of Adverse Facts Available (AFA) to the Provision of Synthetic Yarn and Caustic Soda for Less-than-Adequate-Remuneration (LTAR) Programs

Comment 2: Application of AFA to the Provision of Electricity for LTAR Program

Comment 3: Application of AFA to the Export Buyer's Credit Program

Comment 4: Application of AFA to Other Subsidy Programs

IX. Recommendation

[FR Doc. 2021-16080 Filed 7-27-21; 8:45 am]

BILLING CODE 3510-DS-P